OFFICE OF PERSONNEL MANAGEMENT

5 CFR Part 532

RIN 3206-AI86

Prevailing Rate Systems; Definition of Napa County, CA, to a Nonappropriated Fund Wage Area

AGENCY: Office of Personnel Management.

ACTION: Final rule.

SUMMARY: The Office of Personnel Management is issuing a final rule to add Napa County, California, as an area of application to the Solano, CA, nonappropriated fund (NAF) Federal Wage System (FWS) wage area. This change is necessary because NAF FWS employees will have work stations in Napa County, and Napa County was not previously an NAF wage area.

DATES: Effective Date: This regulation is effective on June 5, 2000.

FOR FURTHER INFORMATION CONTACT: Jennifer Hopkins, (202) 606-2848, FAX: (202) 606-0824, or email jdhopkin@opm.gov.

SUPPLEMENTARY INFORMATION: On November 15, 1999, the Office of Personnel Management (OPM) published an interim rule (64 FR 61769) to redefine the Solano, California, nonappropriated fund (NAF) Federal Wage System (FWS) wage area by adding Napa County, CA, as an area of application. Under section 5343 of title 5, United States Code, OPM is responsible for defining FWS wage areas. For this purpose, we follow the regulatory criteria in section 532.219(b) of title 5, Code of Federal Regulations.

The Solano wage area presently has one survey county, Solano County, and two area of application counties, Marin and Sonoma Counties, CA. The Army and Air Force Exchange Service acquired the Yountville Retail Facility located in Napa County and staffed the new activity with approximately eight employees, two of whom are FWS employees. Under 5 CFR 532.219, each NAF wage area “shall consist of one or more survey areas, along with nonsurvey areas, having nonappropriated fund employees.”

Napa County does not meet the regulatory criteria under 5 CFR 532.219 to be a separate NAF wage area; however, OPM may combine nonsurvey counties with a survey area to form a wage area. Therefore, OPM defined Napa County as an area of application to an existing NAF wage area. The Solano wage survey consists of one survey county, Solano County, and three area of application counties, Marin, Napa, and Sonoma Counties, CA.

The Federal Prevailing Rate Advisory Committee, the national labor-management committee responsible for advising OPM on matters concerning the pay of FWS employees, reviewed and concurred by consensus with this change. The interim rule had a 30-day public comment period, during which OPM did not receive any comments.

Regulatory Flexibility Act

I certify that this regulation will not have a significant economic impact on a substantial number of small entities because it will affect only Federal agencies and employees.

List of Subjects in 5 CFR Part 532

Administrative practice and procedure, Freedom of information, Government employees, Reporting and recordkeeping requirements, Wages.

Accordingly, under the authority of 5 U.S.C. 5343, the interim rule (64 FR 61769) amending 5 CFR part 532 published on November 15, 1999, is adopted as final with no changes.

Office of Personnel Management.
Janice R. Lachance,
Director.

[FR Doc. 00-11198 Filed 5-4-00; 8:45 am]

BILLING CODE 6325-01-U